DEPARTMENT OF TRANSPORTATION

Federal Aviation Administration

14 CFR Part 71

[Docket No. FAA-2016-9473; Airspace Docket No. 16-ANM-7]

Amendment of Class D and Class E Airspace; Cheyenne, WY

AGENCY: Federal Aviation Administration (FAA), DOT.

ACTION: Final rule.

SUMMARY: This action modifies Class D airspace, Class E surface area airspace, Class E airspace extending upward from 700 feet above the surface, and Class E airspace extending upward from 1,200 feet above the surface at Cheyenne Regional/Jerry Olson Field Airport (formerly, Cheyenne Airport), Cheyenne, WY. Airspace redesign is necessary due to the decommissioning of the Cheyenne instrument landing system (ILS) locator outer marker and removal of the Cheyenne VHF Omnidirectional Range/Tactical Air Navigation (VORTAC) from the airspace description as the FAA transitions from ground-based navigation aids to satellite-based navigation. Also, this action updates the airport name and geographic coordinates for the associated Class D and E airspace areas to reflect the FAA's current aeronautical database, and makes an editorial change in the legal description by replacing Airport/Facility Directory with the term Chart Supplement.

DATES: Effective 0901 UTC, December 7, 2017. The Director of the Federal Register approves this incorporation by reference action under Title 1, Code of Federal Regulations, part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of this material at NARA, call (202) 741-6030, or go to http://www.archives.gov/federal_register/code_of_federal-regulations/ibr_locations.html.

FAA Order 7400.11, Airspace Designations and Reporting Points, is published yearly and effective on September 15.

FOR FURTHER INFORMATION CONTACT: Tom Clark, Federal Aviation Administration, Operations Support Group, Western Service Center, 1601 Lind Avenue SW., Renton, WA 98057; telephone (425) 203-4511.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies Class D and E airspace at Cheyenne Regional/Jerry Olson Field Airport, Cheyenne, WY, in support of instrument flight rules operations at the airport.

History

On June 2, 2017, the FAA published in the Federal Register (82 FR 25561) Docket FAA-2016-9473, a notice of proposed rulemaking (NPRM) to modify Class D airspace, Class E surface area airspace, and Class E airspace extending upward from 700 and 1,200 feet above the surface at Cheyenne Regional/Jerry Olson Field Airport, Cheyenne, WY. Interested parties were invited to participate in this rulemaking effort by submitting written comments on the proposal to the FAA. No comments were received.

Class D and E airspace designations are published in paragraph 5000, 6002, and 6005, respectively, of FAA Order 7400.11B, dated August 3, 2017, and effective September 15, 2017, which is incorporated by reference in 14 CFR 71.1. The Class D and E airspace designations listed in this document will be published subsequently in the Order.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

The FAA is amending Title 14 Code of Federal Regulations (14 CFR) part 71 by modifying Class D airspace, modifying Class E surface area airspace, and modifying Class E airspace extending upward from 700 and 1,200 feet above the surface at Cheyenne Regional/Jerry Olson Field Airport, Cheyenne, WY. This action is necessary due to the decommissioning of the Cheyenne ILS locator outer marker, removal of the Cheyenne VORTAC from the airspace description, and the availability of diverse departure headings as the FAA transitions from ground-based navigation aids to satellite-based navigation. Class D airspace is amended by removing the segment on each side of the Cheyenne ILS localizer east course extending from the 5.6-mile radius to the outer marker.

Class E surface area airspace is amended to be coincident with the Class D airspace, and effective during the times the Class D is not in effect.

Class E airspace extending upward from 700 feet above the surface is amended to within an 8.1-mile radius (from 12.2 miles) of Cheyenne Regional/Jerry Olson Field Airport, and within a 9.1-mile radius of the airport from the 240° bearing from the airport clockwise to the 300° bearing from the airport with a segment on each side of a 275° bearing from the airport extending from the airport 9.1-mile radius to 10.6 miles west of the airport, and with another segment on each side of the 028° bearing from the airport extending from the airport 8.1 mile radius to 10.8 miles northeast of the airport. The airspace extending upward from 1,200 feet above the surface would be modified to within a 43.6-mile radius of the airport (from a polygon of similar area) to provide controlled airspace for diverse departures until reaching the overlying Class E airspace.

Also, the geographic coordinates of the airport are updated to match the FAA's current aeronautical database. This action also updates the airport name to Cheyenne Regional/Jerry Olson Field Airport (from Cheyenne Airport). Finally, this action replaces the outdated term Airport/Facility Directory with the term Chart Supplement in the associated Class D and E airspace legal descriptions.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017, and effective September 15, 2017, is amended as follows:

Paragraph 5000 Class D Airspace.

* * * * *

ANM WY D Cheyenne, WY [Amended]

Cheyenne Regional/Jerry Olson Field Airport, WY

(Lat. 41°09′20″ N., long. 104°48′38″ W.)

That airspace extending upward from the surface to and including 8,700 feet MSL within a 5.6-mile radius of Cheyenne Regional/Jerry Olson Field Airport. This Class D airspace area is effective during the specific dates and times established in advance by a Notice to Airmen. The effective date and time will thereafter be continuously published in the Chart Supplement.

Paragraph 6002 Class E Airspace Designated as Surface Areas.

* * * * *

ANM WY E2 Cheyenne, WY [Amended]

Cheyenne Regional/Jerry Olson Field Airport, WY

(Lat. 41°09′20″ N., long. 104°48′38″ W.)

That airspace extending upward from the surface within a 5.6-mile radius of Cheyenne Regional/Jerry Olson Field Airport. This Class E airspace area is effective during the specific dates and times established in advance by a Notice to Airmen. The effective date and time will thereafter be continuously published in the Chart Supplement.

Paragraph 6005 Class E Airspace Areas Extending Upward From 700 Feet or More Above the Surface of the Earth.

* * * * *

ANM WY E5 Cheyenne, WY [Amended]

Cheyenne Regional/Jerry Olson Field Airport, WY

(Lat. 41°09′20″ N., long. 104°48′38″ W.)

That airspace extending upward from 700 feet above the surface within an 8.1-mile radius of Cheyenne Regional/Jerry Olson Field Airport from the 300° bearing from the airport clockwise to the 240° bearing, and within a 9.1-mile radius of the airport from the 240° bearing from the airport clockwise to the 300° bearing from the airport, and within 2.2 miles each side of the 275° bearing from the airport extending from the airport 9.1-mile radius to 10.6 miles west of the airport, and within 2.4 miles each side of a 028° bearing from the airport extending from the airport 8.1 mile radius to 10.8 miles northeast of the airport; and that airspace extending upward from 1,200 feet above the surface within a 43.6-mile radius of the airport.

Issued in Seattle, Washington, on September 14, 2017.
B.G. Chew,
Acting Group Manager, Operations Support Group, Western Service Center.

[FR Doc. 2017-20041 Filed 9-20-17; 8:45 am]

BILLING CODE 4910-13-P